DEPARTMENT OF AGRICULTURE

Forest Service

Forest Service Manual 2750; Special Uses Management Manual; Leasing Forest Service Administrative Sites

AGENCY: Forest Service, USDA.

ACTION: Notice of availability for public comment.

SUMMARY: The United States Department of Agriculture (USDA), United States Forest Service (Forest Service), is issuing proposed new directives on leasing Forest Service administrative sites.

DATES: Comments must be received in writing by July 6, 2020.

ADDRESSES: Proposed directives may be reviewed and electronic comments may be submitted electronically to https://cara.ecosystem-management.org/Public/CommentInput?project=ORMS-2245. Written comments may be mailed to Matthew Fountain, Program Analyst, Lands and Realty Management, 201 14th Street SW, Washington, DC 20024. All timely received comments, including names and addresses, will be placed in the record and will be available for public inspection and copying. The public may inspect comments received at https://cara.ecosystem-management.org/Public/ReadingRoom?project=ORMS-2245.

FOR FURTHER INFORMATION CONTACT: Matthew Fountain, Program Analyst, at 202-403-8959, by electronic mail to SM.FS.WO_LandStaff@usda.gov; or to the Federal eRulemaking portal at http://www.regulations.gov. Individuals using telecommunication devices for the deaf may call the Federal Information Relay Service at 800-877-8339 between 8:00 a.m. and 8:00 p.m. Eastern Standard Time, Monday through Friday.

SUPPLEMENTARY INFORMATION: This proposed directive would set forth direction for leasing Forest Service administrative sites. Proposed direction would implement section 8623 of the Agriculture Improvement Act of 2018, Public Law 115-334, and leasing provisions of the Forest Service Facility Realignment and Enhancement Act of 2005. The leasing provisions of these Acts provide Forest Service the authority to lease Forest Service administrative sites and up to 10 isolated, undeveloped parcels of not more than 40 acres each, for consideration equivalent to their market value.

This manual is a new addition to the 2700 Special Uses Management series, and sets forth policy, responsibilities, and programmatic direction for leasing Forest Service administrative sites. The Forest Service has determined that this manual formulates a standard, criterion, or guideline applicable to a Forest Service program and is therefore publishing the proposed manual for public comment under 36 CFR part 216.

The Forest Service is seeking public comment on all content within the proposed manual. Comment is also invited on the sufficiency of the proposed manual in meeting its stated objectives, ways to enhance the utility and clarity of information within the manual, or ways to streamline processes outlined in the text.

After the public comment period closes, the Forest Service will consider timely comments that are within the scope of the proposed directive in the development of the final directive. A notice of the final directive, including a response to timely comments, will be posted on the Forest Service's web page at https://www.fs.fed.us/about-agency/regulations-policies/comment-on-directives.

Tina Johna Terrell,
Associate Deputy Chief, National Forest System.

[FR Doc. 2020-11466 Filed 6-2-20; 8:45 am]

BILLING CODE 3411-15-P